DEPARTMENT OF ENERGY

Federal Energy Regulatory Commission

Notice of Staff Attendance at the Technical Talk With Reliabilityfirst

The Federal Energy Regulatory Commission hereby gives notice that members of the Commission and/or Commission staff may attend the following virtual meeting:

Technical Talk with ReliabilityFirst:

July 15, 2024 | 2:00 p.m.-3:30 p.m. Eastern

Further information regarding this meeting may be found at: https://www.rfirst.org/event/technical-talk-with-rf-20/.

The discussions at the above meeting may address matters at issue in the following Commission proceedings:

Docket Nos.

RD24-5-000—Extreme Cold Weather

RD24-1-000—Reliability Standards

For further information, please contact Chanel Chasanov, 202-502-8569, or chanel.chasanov@ferc.gov.

Dated: July 10, 2024.
Debbie-Anne A. Reese,
Acting Secretary.

[FR Doc. 2024-15612 Filed 7-15-24; 8:45 am]

BILLING CODE 6717-01-P